FEDERAL COMMUNICATIONS COMMISSION

47 CFR Part 73

[DA 01-1149; MM Docket No. 01-35; RM-10054]

Radio Broadcasting Services; Young Harris, GA

AGENCY: Federal Communications Commission.

ACTION: Final rule.

SUMMARY: This document allots Channel 236A to Young Harris, Georgia, as that community's first local FM transmission service, in response to a petition for rule making filed by M. Terry Carter and Douglas Sutton, Jr. d/b/a Tugart Communications. See 66 FR 12449, February 27, 2001. This allotment is made without a site restriction utilizing city reference coordinates at 34-56-00 NL and 83-50-54 WL. With this action, this docketed proceeding is terminated.

DATES: Effective June 22, 2001. A filing window for Channel 236A at Young Harris, Georgia, will not be opened at this time. Instead, the issue of opening the allotment for auction will be addressed by the Commission in a subsequent Order.

FOR FURTHER INFORMATION CONTACT: Nancy Joyner, Mass Media Bureau, (202) 418-2180. Questions related to the application process should be addressed to the Audio Services Division, (202) 418-2700.

SUPPLEMENTARY INFORMATION: This is a synopsis of the Commission's Report and Order, MM Docket No. 01-35, adopted April 25, 2001, and released May 8, 2001. The full text of this Commission decision is available for inspection and copying during normal business hours in the FCC's Reference Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Georgia, is amended by adding Young Harris, Channel 236A.

Federal Communicatiions Commission.
John A. Karousos,
Chief, Allocations Branch, Policy and Rules Division, Mass Media Bureau.

[FR Doc. 01-12272 Filed 5-15-01; 8:45 am]

BILLING CODE 6712-01-P